DEPARTMENT OF DEFENSE

Office of the Secretary

TRICARE; Calendar Year (CY) 2025; TRICARE Prime and TRICARE Select Out-of-Pocket Expenses

AGENCY: Office of the Secretary, Department of Defense.

ACTION: Notice of calendar year (CY) 2025 TRICARE Prime and TRICARE Select out-of-pocket expenses.

SUMMARY: This notice provides the Calendar Year (CY) 2025 TRICARE Prime and TRICARE Select out-of-pocket expenses.

DATES: The CY 2025 rates contained in this notice are effective January 1, 2025.

ADDRESSES: Defense Health Agency (DHA), TRICARE Health Plan, 7700 Arlington Boulevard, Suite 5101, Falls Church, Virginia 22042-5101.

FOR FURTHER INFORMATION CONTACT: Debra Fisher, 703-275-6224, dha.ncr.healthcare-ops.mbx.thp-policy-and-programs-branch@health.mil.

SUPPLEMENTARY INFORMATION: The National Defense Authorization Acts for Fiscal Years 2012 and 2017, and subsequent implementing regulations (e.g., § 199.17 of title 32 of the Code of Federal Regulations), established rates for TRICARE beneficiary out-of-pocket expenses and how they may be increased by the annual cost of living adjustment (COLA) percentage used to increase military retired pay or via budget neutrality rules. The CY 2025 retiree COLA increase is 2.5%.

The DHA has updated the CY 2025 out-of-pocket expenses as shown below:

Calendar Year 2025 TRICARE Prime and TRICARE Select Out-of-Pocket Expenses—Active Duty Family Members (ADFM) Category
[Page 1 of 1]
Out of pocket expense | Select Group A CY25 | Select Group B CY25 | Prime * Group A CY25 | Prime * Group B CY25
Annual enrollment fee:
Individual | $0 | $0 | $0 | $0
Family | $0 | $0 | 0 | 0
Annual deductible:
E1-E4, individual | $50 | $64 | 0 | 0
E1-E4, family | $100 | $128 | 0 | 0
E5 & above, individual | $150 | $193 | 0 | 0
E5 & above, family | $300 | $386 | 0 | 0
Annual catastrophic cap | $1,000 | $1,288 | 1,000 | 1,288
Preventive visit | $0 | $0 | 0 | 0
Primary care | $27 (IN); 20% (OON) | $19 (IN); 20% (OON) | 0 | 0
Specialty care | $38 (IN); 20% (OON) | $32 (IN); 20% (OON) | 0 | 0
ER visit | $105 (IN); 20% (OON) | $51 (IN); 20% (OON) | 0 | 0
Urgent care center visit | $27 (IN); 20% (OON) | $25 (IN); 20% (OON) | 0 | 0
Ambulatory surgery | $25 (IN or OON) | $32 (IN); 20% (OON) | 0 | 0
Ambulance, outpatient ground | $86 (IN); 20% (OON) | $19 (IN); 20% (OON) | 0 | 0
Ambulance, outpatient air | 20%; (IN or OON) | 20%; (IN or OON) | 0 | 0
Durable medical equipment | 15% (IN); 20% (OON) | 10% (IN); 20% (OON) | 0 | 0
Inpatient admission | $23.45 per day; $25 min. per admission | $77 per adm. (IN); 20% (OON) | 0 | 0
Inpatient SNF/rehab facility | $23.45 per day; $25 min. per admission | $32 per day (IN); $64 per day (OON) | 0 | 0
* When TRICARE Prime enrollees other than active duty service members self-refer to specialty or non-emergent inpatient care without a referral from a network provider and/or authorization from the regional contractor, the TRICARE Point of Service deductible and copayment applies in lieu of TRICARE Prime copayments.

Calendar Year 2025 TRICARE Prime and TRICARE Select Out-of-Pocket Expenses—Retiree Beneficiary Category
[Page 1 of 2]
Out of pocket expense | Select Group A CY25 | Select Group B CY25 | Prime * Group A CY25 | Prime * Group B CY25
Annual enrollment fee:
Individual | $181.92 | $579 | $372 | $450
Family | $364.92 | $1,158.96 | 744 | 900.96
Annual deductible:
Individual | $150 | $193 (IN); $386 (OON) | 0 | 0
Family | $300 | $386 (IN); $772 (OON) | 0 | 0
Annual catastrophic cap | $4,261 | $4,509 | 3,000 | 4,509
Preventive visit | $0 | $0 | 0 | 0
Primary care | $37 (IN); 25% (OON) | $32 (IN); 25% (OON) | 25 | 25
Specialty care | $51 (IN); 25% (OON) | $51 (IN); 25% (OON) | 38 | 38
ER visit | $140 (IN); 25% (OON) | $103 (IN); 25% (OON) | 77 | 77
Urgent care center visit | $37 (IN); 25% (OON) | $51 (IN); 25% (OON) | 38 | 38
Ambulatory surgery | 20% (IN); 25% (OON) | $122 (IN); 25% (OON) | 77 | 77
Ambulance, outpatient ground | $115 (IN); 25% (OON) | $77 (IN); 25% (OON) | 51 | 51
Ambulance, outpatient air | 25%; (IN or OON) | 25%; (IN or OON) | 20 | 20
Note: The calendar year catastrophic cap for TRICARE Select Group A retirees who are survivors of active duty deceased sponsors or medically retired Uniformed Service members and their dependents is $3,000.

Calendar Year 2025 TRICARE Prime and TRICARE Select Out-of-Pocket Expenses—Retiree Beneficiary Category
[Page 2 of 2]
Out of pocket expense | Select Group A CY25 | Select Group B CY25 | Prime * Group A CY25 | Prime * Group B CY25
Durable medical equipment | 20% (IN); 25% (OON) | 20% (IN); 25% (OON) | 20% | 20%.
Inpatient admission:
In-network | $250/day up to 25% of hospital charges, plus 20% of sep. billed services | $225 per adm | $193 per adm | $193 per adm.
Out of network | ‡ $1,221/day up to 25% of hosp. charges, plus 25% of sep. billed services | 25% | $193 per adm | $193 per adm.
Inpatient SNF/rehab facility | $250/day up to 25% of hospital charges, plus 20% of sep. billed services (IN); 25% (OON) | $64 per day (IN); lesser of $386 per day or 20% (OON) | $38 per day | $38 per day.
‡ This is the CY24 rate. The CY25 out of pocket expense will be available mid-December once the DRG payment rates are calculated.
* When TRICARE Prime enrollees other than active duty service members self-refer to specialty or non-emergent inpatient care without a referral from a network provider and/or authorization from the regional contractor, the TRICARE Point of Service deductible and copayment applies in lieu of TRICARE Prime copayments.

The CY 2025 rates contained in this notice are effective January 1, 2025.

Dated: October 31, 2024.
Aaron T. Siegel,
Alternate OSD Federal Register Liaison Officer, Department of Defense.

[FR Doc. 2024-25753 Filed 11-5-24; 8:45 am]

BILLING CODE 6001-FR-P